DEPARTMENT OF TRANSPORTATION

Federal Aviation Administration

[Docket No. FAA-2021-0984]

Agency Information Collection Activities: Requests for Comments; Clearance of Renewed Approval of Information Collection: Application for Pilot School Certification

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on October 26, 2021. The collection involves filling out the Application for a Pilot School Certification form and submitting this form to the Federal Aviation Administration (FAA). The information to be collected is necessary because Title 14 Code of the Federal Regulations (CFR), part 141, requires an applicant for a pilot school to receive the FAA Administrator's approval for the issuance of a pilot school certificate. We have revised the name of this information collection for consistency with FAA form 8420-8, Application for Pilot School Certification. We have also updated the number of pilot schools.

DATES: Written comments should be submitted by April 4, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Jean Hardy by email at: jean.hardy@faa.gov; phone: (207) 298-7287.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0009.

Title: Application for Pilot School Certification.

Form Numbers: 8420-8.

Type of Review: This is a renewal of an information collection.

Background: The Federal Register Notice with a 60-day comment period soliciting comments on the following collection of information was published on October 26, 2021 (86 FR 59265). The information on FAA From 8420-8, Application for Pilot School Certification, is required from applicants who wish certification as a pilot school with the associated ratings, or who wish to renew their pilot school certification. On previous renewals, the title of this information collection and notice was “Pilot Schools—FAR 141”. We have revised the name of this information collection as the term “FAR” is no longer used to reference aviation regulations. Because of this change, and to add clarity, we are using the name of the FAA form 8420-8, Application for Pilot School Certification. Pilot schools are mandated to report information to the FAA and to keep specific records. Pilot schools train private, commercial, flight instructor, and airline transport pilots, along with training for associated ratings in various types of aircraft. The FAA form 8240-8 is necessary to assure continuing compliance with part 141, renewal of pilot school certificates every 24 months, and for any amendments to pilot school certificates.

The FAA is also making a burden adjustment to the number of pilot schools. Currently, this number is 527. We estimate 31 new applications for an original certification annually from applicants for a pilot school certificate. We estimate 263 applications for renewal annually. This figure represents approximately half of the current 527 certificated pilot schools.

Respondents: Respondents include new applications, renewals of the pilot school certification, and amendments to an existing pilot school.

Frequency: Every 24 months certificated pilot schools must renew their pilot school certification.

Estimated Average Burden per Response: We anticipate 31 new applications at a rate of 0.5 hours for a total of 15.5 hours. We also anticipate 263 applications for renewals at a rate of 0.5 hours for a total of 131.5 hours. Additionally, we estimate 20 applications for an amendment to their pilot school certificate at a rate of 0.5 hours for a total burden of 10.0 hours.

Estimated Total Annual Burden: We anticipate a total annual burden of 27,740 hours.

Issued in Washington, DC, on February 28, 2022.
Dwayne C. Morris,
Project Manager, Flight Standards Service, General Aviation and Commercial Division.

[FR Doc. 2022-04479 Filed 3-2-22; 8:45 am]

BILLING CODE 4910-13-P